DEPARTMENT OF AGRICULTURE

Agricultural Marketing Service

[Doc. No. AMS-TM-22-0017]

Regional Food Business Centers; Request for a New Information Collection

AGENCY: Agricultural Marketing Service, USDA.

ACTION: Notice and request for comments.

SUMMARY: In accordance with the Paperwork Reduction Act of 1995, this notice announces the Agricultural Marketing Service's (AMS) intention to seek approval from the Office of Management and Budget to collect information related to the new Regional Food Business Centers created by the AMS Transportation and Marketing Program.

DATES: Comments on this notice must be received by May 10, 2022 to be assured of consideration.

ADDRESSES: Interested persons are invited to submit comments concerning this information collection notice. Comments should be submitted online at www.regulations.gov or sent to Christina Conell, Marketing Services Division Deputy Director, AMS Transportation and Marketing Program, 1400 Independence Avenue SW, Stop 0269, Washington, DC 20250-0264, Fax: (202) 690-0338. All comments should reference the document number and the date and page number of this issue of the Federal Register. All comments submitted in response to this notice will be posted without change, including any personal information provided, at www.regulations.gov and will be included in the record and made available to the public. All comments received will also be available for public inspection during regular business hours at the address above.

FOR FURTHER INFORMATION CONTACT: Christina Conell, Marketing Services Division Deputy Director, AMS Transportation and Marketing Program, 1400 Independence Avenue SW, Stop 0269, Washington, DC 20250-0264, Telephone: (202) 657-8647 or Email: christina.conell@usda.gov.

SUPPLEMENTARY INFORMATION:

Overview of This Information Collection

Agency: USDA, AMS.

Title: Regional Food Business Centers (RFBC).

OMB Number: 0581-NEW.

Type of Request: New Information Collection.

Abstract: The Regional Food Business Centers are authorized and funded by Section 1001(b)(4) of the American Rescue Plan Act of 2021 (Pub. L. 117-2). Under Section 1001(b)(4), the Secretary is directed to provide assistance for maintaining and improving food and agricultural supply chain resiliency. AMS will enter into cooperative agreements with the RFBCs.

The Regional Food Business Centers will be the backbone for local and regional supply chain development and will offer coordination, technical assistance, and capacity building support to small and mid-sized food and farm businesses which will lead to more resilient, diverse, and connected supply chains. This program will provide a way for geographic regions to tailor development and investment to fit their needs, while recognizing that resilient supply chains are built upon strong relationships between individuals, communities, regions, sectors, and institutions. The RFBCs will support coordination in their region, fund technical assistance (TA) providers to offer business technical assistance to food and farm businesses and provide small grants to food businesses looking to expand or start in their region.

Because these programs are voluntary, respondents apply for the specific program, and in doing so, they provide information. AMS is the primary user of the information. The information collected is needed to certify that RFBCs are complying with applicable program regulations, and the data collected is the minimum information necessary to effectively carry out the requirements of the program. The information collection requirements in this request are essential to administer and evaluate the program and to provide the necessary technical assistance to RFBCs and their subrecipients.

The data collection will include the collection of application information, quarterly reports, in addition to biannual interviews and quantitative information related to RFBCs (awardees), the TA providers (sub-awardees) and the businesses they fund.

Estimate of Burden: Public reporting burden for this collection of information is estimated to total 1,508.33 hours.

Respondents: Peer reviewers, RFBC applicants, RFBCs (awardees).

Estimated Number of Respondents: 460 respondents.

Estimated Total Annual Responses including Recordkeeping: 591 annual responses.

Estimated Number of Responses per Respondent: 34.76 annual responses per respondent (591 annual responses/17 responses per respondent).

Estimated Total Annual Burden on Respondents and Recordkeepers: 119.87 total hours per respondent (1508.33 hours/12.583 hours per response).

Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

All responses to this notice will be summarized and included in the request for OMB approval. All comments will become a matter of public record.

Melissa R. Bailey,
Associate Administrator, Agricultural Marketing Service.

[FR Doc. 2022-05170 Filed 3-10-22; 8:45 am]

BILLING CODE P